DEPARTMENT OF HOMELAND SECURITY

Federal Emergency Management Agency

[Docket ID FEMA-2020-0002; Internal Agency Docket No. FEMA-B-2020]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona:
Maricopa | City of Buckeye (19-09-2206P) | The Honorable Jackie A. Meck, Mayor, City of Buckeye, 530 East Monroe Avenue, Buckeye, AZ 85326. | Engineering Department, 530 East Monroe Avenue, Buckeye, AZ 85326 | https://msc.fema.gov/portal/advanceSearch | Jun. 12, 2020 | 040039
Maricopa | City of Goodyear (19-09-2077P) | The Honorable Georgia Lord, Mayor, City of Goodyear, 190 North Litchfield Road, Goodyear, AZ 85338 | Engineering and Development Services, 14455 West Van Buren Street, Suite D101, Goodyear, AZ 85338 | https://msc.fema.gov/portal/advanceSearch | Jun. 26, 2020 | 040046
Maricopa | City of Phoenix (20-09-0214P) | The Honorable Kate Gallego, Mayor, City of Phoenix, 200 West Washington Street, Phoenix, AZ 85003 | Street Transportation Department, 200 West Washington Street, 5th Floor, Phoenix, AZ 85003 | https://msc.fema.gov/portal/advanceSearch | Jun. 26, 2020 | 040051
Maricopa | Unincorporated Areas of Maricopa County (19-09-0546P) | The Honorable Clint L. Hickman, Chairman, Board of Supervisors, Maricopa County, 301 West Jefferson Street, 10th Floor, Phoenix, AZ 85003 | Flood Control District of Maricopa County, 2801 West Durango Street, Phoenix, AZ 85009 | https://msc.fema.gov/portal/advanceSearch | Jun. 12, 2020 | 040037
Maricopa | Unincorporated Areas of Maricopa County (19-09-1186P) | The Honorable Clint L. Hickman, Chairman, Board of Supervisors, Maricopa County, 301 West Jefferson Street, 10th Floor, Phoenix, AZ 85003 | Flood Control District of Maricopa County, 2801 West Durango Street, Phoenix, AZ 85009 | https://msc.fema.gov/portal/advanceSearch | Jun. 26, 2020 | 040037
Maricopa | Unincorporated Areas of Maricopa County (19-09-2206P) | The Honorable Clint L. Hickman, Chairman, Board of Supervisors, Maricopa County, 301 West Jefferson Street, 10th Floor, Phoenix, AZ 85003 | Flood Control District of Maricopa County, 2801 West Durango Street, Phoenix, AZ 85009 | https://msc.fema.gov/portl/advanceSearch | Jun. 12, 2020 | 040037
California:
San Diego | City of San Diego (19-09-1533P) | The Honorable Kevin L. Faulconer, Mayor, City of San Diego, 202 C Street, 11th Floor, San Diego, CA 92101 | Development Services Department, 1222 1st Avenue, MS 301, San Diego, CA 92101 | https://msc.fema.gov/portal/advanceSearch | Jun. 22, 2020 | 060295
San Diego | City of Vista (19-09-1368P) | The Honorable Judy Ritter, Mayor, City of Vista, 200 Civic Center Drive, Vista, CA 92084 | City Hall, 200 Civic Center Drive, Vista, CA 92084 | https://msc.fema.gov/portal/advanceSearch | Jun. 17, 2020 | 060297
Sonoma | City of Healdsburg (19-09-2240P) | The Honorable Leah Gold, Mayor, City of Healdsburg, 401 Grove Street, Healdsburg, CA 95448. | Public Works Department, 401 Grove Street, Healdsburg, CA 95448 | https://msc.fema.gov/portal/advanceSearch | Jun. 19, 2020 | 060378
Florida: St. Johns | Unincorporated Areas of St. Johns County (19-04-4794P) | Mr. Jeb S. Smith, St. Johns County Chairman, 500 San Sebastian View, St. Augustine, FL 32084 | St. Johns County, Building Department, 4040 Lewis Speedway, St. Augustine, FL 32084 | https://msc.fema.gov/portal/advanceSearch | Jun. 25, 2020 | 125147
Hawaii: Maui | Maui County (19-09-1600P) | The Honorable Michael P. Victorino, Mayor, County of Maui, 200 South High Street, Kalana O Maui Building 9th Floor, Wailuku, HI 96793 | County of Maui Planning Department, 2200 Main Street, Suite 315, Wailuku, HI 96793 | https://msc.fema.gov/portal/advanceSearch | Jun. 22, 2020 | 150003
Idaho: Ada | Unincorporated Areas of Ada County (20-10-0034P) | The Honorable Kendra Kenyon, Chair of the Board, District 3 Commissioner, Ada County Courthouse, 200 West Front Street, 3rd Floor, Boise, ID 83702 | Ada County Courthouse, 200 West Front Street, Boise, ID 83702 | https://msc.fema.gov/portal/advanceSearch | Jun. 19, 2020 | 160001
Minnesota:
Olmsted | City of Rochester (19-05-2402P) | The Honorable Kim Norton, Mayor, City of Rochester, City Hall, 201 4th Street Southeast Room 281, Rochester, MN 55904 | City Hall, 201 4th Street Southeast, Rochester, MN 55904 | https://msc.fema.gov/portal/advanceSearch | Jun. 18, 2020 | 275246
Olmsted | Unincorporated Areas of Olmsted County (19-05-2402P) | Mr. Jim Bier, County Board Chair, Olmsted County Board of Commissioners, 151 4th Street Southeast, Rochester, MN 55904 | Olmsted County Government Center, 151 4th Street Southeast, Rochester, MN 55904 | https://msc.fema.gov/portal/advanceSearch | Jun. 18, 2020 | 270626
New Jersey:
Essex | Township of Belleville (20-02-0232P) | The Honorable Michael Melham, Mayor, Township of Belleville, 152 Washington Avenue, Belleville, NJ 07109 | Engineering Office, 152 Washington Avenue, Belleville, NJ 07109 | https://msc.fema.gov/portal/advanceSearch | Jun. 1, 2020 | 340177
Essex | Township of Nutley (20-02-0232P) | The Honorable Dr. Joseph Scarpelli, Mayor, Township of Nutley, 1 Kennedy Drive, Nutley, NJ 07110 | Township Hall, 1 Kennedy Drive, Nutley, NJ 07110 | https://msc.fema.gov/portal/advanceSearch | Jun. 1, 2020 | 340191
Texas:
Dallas | City of Grand Prairie (19-06-1737P) | The Honorable Ron Jensen, Mayor, City of Grand Prairie, 317 West College Street, Grand Prairie, TX 75050 | City Development Center, 206 West Church Street, Grand Prairie, TX 75050 | https://msc.fema.gov/portal/advanceSearch | Jun. 1, 2020 | 485472
Dallas | City of Irving (19-06-1737P) | The Honorable Rick Stopfer, Mayor, City of Irving, 825 West Irving Boulevard, Irving, TX 75060 | Capital Improvement Program Department, 825 West Irving Boulevard, Irving, TX 75060 | https://msc.fema.gov/portal/advanceSearch | Jun. 1, 2020 | 480180

[FR Doc. 2020-05519 Filed 3-16-20; 8:45 am]

BILLING CODE 9110-12-P